DEPARTMENT OF LABOR

Mine Safety and Health Administration

30 CFR Part 57

RIN 1219-AB29

Diesel Particulate Matter Exposure of Underground Metal and Nonmetal Miners

AGENCY: Mine Safety and Health Administration (MSHA), Labor.

ACTION: Diesel particulate outreach seminars.

SUMMARY: The Mine Safety and Health Administration (MSHA) will conduct three outreach seminars to assist metal and nonmetal underground mine operators who use diesel-powered equipment in complying with the diesel particulate matter (DPM) health standards published on May 18, 2006 (71 FR 28924). The seminars will also address requirements for special extensions of time in which to meet the final limit.

DATES: The seminars will be held June 27, 2006 in Pittsburgh, Pennsylvania; June 29, 2006 in Louisville, Kentucky; and July 13, 2006 in Reno, Nevada. The seminar in Reno is being held in conjunction with the National Metal and Nonmetal Mine Rescue Contest at the same location as the contest.

ADDRESSES: See the location information provided in the SUPPLEMENTARY INFORMATION section below.

FOR FURTHER INFORMATION CONTACT: Patricia W. Silvey, Acting Director, Office of Standards, Regulations, and Variances, MSHA, 1100 Wilson Blvd., Room 2350, Arlington, Virginia 22209-3939; 202-693-9440 (telephone); or 202-693-9441 (facsimile).

The final rules on Diesel Particulate Matter Exposure of Underground Metal and Nonmetal Miners are available on the Internet at http://www.msha.gov/REGSINFO.HTM.

SUPPLEMENTARY INFORMATION:

I. Seminars

The one-day seminars will provide for an exchange of information and will address questions about provisions of the May 18, 2006 final rule regarding the phased-in final limits, new provisions for medical evaluation of miners required to wear respiratory protection, and transfer of miners who are medically unable to wear respirators. The seminars will also address requirements from the June 6, 2005 rule for special extensions of time to meet the DPM final limit (70 FR 32868).

A. Attendance

The seminars are open to all interested parties. Metal and nonmetal mine operators, including contractors, who use diesel-powered equipment underground, as well as miners who work at those operations, miners' representatives and diesel powered equipment manufacturers are encouraged to attend the seminars. Registration to attend the seminars is not required.

B. Conduct of the Seminars

The seminars will begin each day at 9 a.m. During the morning session, MSHA will answer questions about requirements of the rule including compliance determination, the final PELs, applications for extensions of time in which to meet the final limits, medical evaluation, and transfer provisions. MSHA will give a PowerPoint presentation of the final rule provisions, followed by a question and answer session with the attendees.

The afternoon session will focus on a discussion of control technology. The purpose of the controls session is to provide the mining community with technical information on DPM control technologies that can be used to reduce personal exposures to DPM in underground MNM mines. The PowerPoint presentations will be made available on MSHA's Internet site at http://www.msha.gov.

C. Location of Seminars

The seminars will be held on the following dates and at the locations indicated:

Date | Location | Phone
June 27, 2006 | Pittsburgh Airport Marriott, 777 Aten Road, Coraopolis, PA 15108 | (800) 328-9297
June 29, 2006 | Executive Inn, 978 Phillips Lane, Louisville, KY 40213 | (800) 626-2706
July 13, 2006 | Reno Sparks Convention Center, 4590 S Virginia Street, Reno, NV 89502-6013 | (775) 827-7620

The Reno, NV seminar is being held in conjunction with the National Metal and Nonmetal Mine Rescue Contest and is at the same location as the contest.

II. Background

In January 2001, MSHA promulgated a final rule addressing DPM exposure of underground metal and nonmetal miners (66 FR 5706). The 2001 final rule established new health standards for underground metal and nonmetal mines that use equipment powered by diesel engines. The rule established an interim concentration limit of 400 micrograms of total carbon (TC) per cubic meter of air (400TC μg/m³) which became applicable July 20, 2002, and a final concentration limit of 160 micrograms of total carbon per cubic meter of air (160TC μg/m³) to become applicable after January 19, 2006; (amended on September 19, 2005 (70 FR 55019), to become applicable May 20, 2006). Industry challenged the rule and organized labor intervened in the litigation. Settlement negotiations with the litigants have resulted in other regulatory actions on several requirements of the rule. On February 27, 2002 (67 FR 9180), MSHA revised the 2001 final rule to clarify § 57.5060(b)(1) and (b)(2) regarding maintenance and to add a new paragraph (b)(3) to § 57.5067 regarding the transfer of existing equipment between underground mines. MSHA published the 2005 final rule on June 6, 2005, which converted the interim concentration limit measured by TC to a comparable permissible exposure limit (PEL) measured by elemental carbon (EC).

The 2006 final rule phases in the DPM final limit of 160TC μg/m³ over a two-year period, based on feasibility. On May 20, 2006, the first phase of the final limit of 308EC μg/m³ became effective. On January 20, 2007, the DPM final limit will be reduced to 350TC μg/m³. The final limit of 160TC μg/m³ will become effective on May 20, 2008. Mine operators must continue to use engineering and administrative controls, supplemented by respiratory protection when needed, to reduce miners' exposures to the prescribed limits. As with the interim DPM limit, MSHA will enforce the final limits as permissible exposure limits (PEL).

This final rule also establishes new requirements for medical evaluation of miners required to wear respiratory protection, and transfer of miners who are medically unable to wear a respirator. It deletes the existing provision that restricts newer mines from applying for an extension of time in which to meet the final limit.

Dated: June 6, 2006.
Patricia W. Silvey,
Acting Director, Office of Standards, Regulations and Variances.

[FR Doc. E6-9067 Filed 6-8-06; 8:45 am]

BILLING CODE 4510-43-P